DEPARTMENT OF AGRICULTURE

Forest Service

Dry Fork Vegetative Restoration Project, Lewis and Clark National Forest, Cascade and Judith Basin Counties, MT

AGENCY: Forest Service, USDA.

ACTION: Notice of intent to prepare a Supplemental Environmental Impact Statement.

SUMMARY: The USDA Forest Service is preparing a Supplemental Environmental Impact Statement to further address issues associated with old growth associated with the Dry Fork Vegetative Restoration project on the Belt Creek Ranger District of the Lewis and Clark National Forest. This project proposes treatments including timber harvest and prescribed fire to move vegetative conditions such as age class and stand structure towards those that would most likely occur in the absence of fire suppression.

DATES: The Supplemental Draft Environmental Impact Statement (EIS) is expected January 2006 and the Supplemental Final EIS and Record of Decision are expected April 2006.

ADDRESSES: Send written comments to Lesley W. Thompson, Forest Supervisor, Lewis and Clark National Forest, P.O. Box 869, Great Falls, Montana 59403. Copies of the SEIS will be available at the Supervisor's Office, 1101 15th Street North, Great Falls, Montana 59403. Electronic copies will also be available on the Internet at http://www.fs.fed.us/r1/lewisclark in the Projects and Plans area.

FOR FURTHER INFORMATION CONTACT: Questions about the proposed action should be directed to Jennifer Woods, Environmental Coordinator, (406) 791-7765; or Al Koss, Belt Creek District Ranger, phone (406) 236-5511.

SUPPLEMENTARY INFORMATION:

Purpose and Need for Action

A landscape assessment conducted by the Forest identified risks and opportunities for the Belt Creek assessment area in the Little Belt Mountains south and east of Great Falls. It showed that trends in some types of vegetation, the age distribution, stand structure and vegetative mosaic deviated notably from what might have occurred under natural conditions. The purpose and need for the Dry Fork Vegetative Restoration project is to move vegetation in a portion of the assessment area toward desired conditions using prescribed fire and timber harvest. An emphasis would be given to areas where there would be improved diversity in vegetative structure, species and age class. In addition, there is a need to reduce wildfire hazards to public and to fire fighters and better protect private lands within and adjacent to the forest.

Proposed Action

Approximately 3,416 acres would be treated using commercial timber harvest and prescribed fire treatment. Road reconstruction would take place on 4.9 miles of existing road and 1.7 miles of new system road would be constructed. No timber harvest would be conducted within inventoried roadless areas. Approximately 20.6 miles of road closures would be implemented through gating, signing, reclamation and change of use.

Alternatives

Alternatives that were considered in detailed study include the No Action Alternative and five additional alternatives that considered a variety of types and amounts of vegetation treatments. In addition, seven other alternatives were considered, but did not merit further evaluation due to lack of feasibility, economics, or because they did not meet the purpose and need.

Responsible Official

The Responsible Official is Lesley W. Thompson, Forest Supervisor, Lewis and Clark National Forest, P.O. Box 869, Great Falls, MT 59403.

Nature of the Decision To Be Made

The scope of the actions in the decision are limited to vegetative treatment measures within the analysis area that would result in a change in age class and structure of the current vegetative conditions, including timber harvest and use of prescribed burning, as well as road management determinations, including road construction and reconstruction.

Scoping Process

The proposal was developed with input from state congressional offices, county commissioners, and local community members, who formed an association as a forum for ensuring community viewpoints were communicated. Two public field trips and two public meetings were held at which approximately 100 people attended. A formal scoping letter was sent to interested parties in April 1998 and a Decision Notice and Finding of No Significant Impact was released in June 2000. Three appeals were received and the vegetative portion of the decision was reversed to better address effects of the project to soil resources.

The USDA Forest Service published a notice of intent to conduct an EIS for the Dry Fork Vegetative Restoration project in the Federal Register on November 17, 2000 (Vol. 65, No. 233, page 69496).

The Forest Service released a Draft Environmental Impact Statement (DEIS) in April 2001. The Final Environmental Impact Statement (FEIS) and Record of Decision were released in November 2001. The project was administratively appealed and the Forest Supervisor decision was upheld through administrative review. On June 19, 2003, The Ecology Center and Native Ecosystem Council filed a complaint in the district court for the District of Montana seeking declaratory and injunctive relief. In February 2004, the District Court ruled in favor of the Forest Service. Plaintiffs in that case appealed to the Court of Appeals for the Ninth Circuit. On August 10, 2005, the Court of Appeals reversed the District Court and remanded the case to the Forest Service. The Court of Appeals made the following determinations:

1. The Forest Service failed to demonstrate that the project was consistent with the forest plan's old growth forest standard, and thus failed to comply with the Forest Act.

2. The Forest Service failed to demonstrate that the project was consistent with the forest plans' goshawk monitoring requirements. The Supplemental EIS will address issues associated with the forest plan old growth standard as it relates to the proposed action. A forest plan monitoring report will address issues associated with forest plan goshawk monitoring requirements.

Preliminary Issues

Key issues that were identified include the possible negative environmental effects to soil and water quality and fisheries resources, effects of treatments for addressing forest health issues, effects of actions on wildlife species and their habitat, and effects to recreational activities and opportunities.

Comments Requested

The Draft Supplemental EIS is expected to be filed with the Environmental Protection Agency (EPA) and available for public review in January 2006. At that time the EPA will publish a Notice of Availability (NOA) of the Draft Supplemental EIS in the Federal Register. The comment period for the Draft Supplemental EIS will be 45 days from the publication date of the NOA. A Supplemental Final EIS and new Record of Decision will then be prepared.

Early Notice of the Importance of Public Participation in Subsequent Environmental Review

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points).

Dated: October 11, 2005.
Lesley W. Thompson,
Forest Supervisor.

[FR Doc. 05-20687 Filed 10-14-05; 8:45 am]

BILLING CODE 3410-11-M